SMALL BUSINESS ADMINISTRATION

Data Collection Available for Public Comments and Recommendations

AGENCY: Small Business Administration.

ACTION: Notice and request for comments.

SUMMARY: In accordance with the Paperwork Reduction Act of 1995, this notice announces the Small Business Administration's intentions to request approval on a new and/or currently approved information collection.

DATES: Submit comments on or before November 7, 2011.

ADDRESSES: Send all comments regarding whether these information collections are necessary for the proper performance of the function of the agency, whether the burden estimates are accurate, and if there are ways to minimize the estimated burden and enhance the quality of the collections, to Cynthia Pitts, Director, Disaster Administrative Service, Small Business Administration, 409 3rd Street, 6th Floor, Washington, DC 20416.

FOR FURTHER INFORMATION CONTACT: Cynthia Pitts, Disaster Administrative Service, 202-205-7570, Cynthia/pitts@sba.gov; Curtis B. Rich, Management Analyst, 202-205-7030 curtis.rich@sba.gov.

SUPPLEMENTARY INFORMATION: Application for benefits (ban) used to determine eligibility and credit worthiness of business owners/businesses who seek Federal assistance in a declared disaster. Respondents are disaster business owners seeking disaster assistance.

Title: “Disaster Business Loan Application.”

Description of Respondents: Applicants requesting Disaster Business Loan.

Form Number: 5.

Annual Responses: 8,014.

Annual Burden: 18,709.

SUPPLEMENTARY INFORMATION: Application for benefits (loan) used to determine eligibility and credit worthiness of individual victims who seek Federal assistance in a declared disaster. Respondents are disaster victims seeking disaster assistance.

Title: “Disaster Home Loan Application.”

Description of Respondents: Applicants requesting Disaster Home Loan.

Form Number: 5C.

Annual Responses: 46,462.

Annual Burden: 69,693.

ADDRESSES: Send all comments regarding whether this information collection is necessary for the proper performance of the function of the agency, whether the burden estimates are accurate, and if there are ways to minimize the estimated burden and enhance the quality of the collection, to Travis Farris, Assistant Counsel to the Inspector General, Office of Inspector General, Small Business Administration, 409 3rd Street, 5th Floor, Washington, DC 20416.

FOR FURTHER INFORMATION CONTACT: Travis Farris, Assistant Counsel to the Inspector General, 202-205-7178, travis.farris@sba/gov; Curtis B. Rich, Management Analyst, 202-205-7030 curtis.rich@sba.gov.

SUPPLEMENTARY INFORMATION: Small Business Administration SBA Form 912 is used to collect information needed to make character determinations with respect to applicants for monetary loan assistance or applicants for participation in SBA programs. The information collected is used as the basis for conducting name checks at national Federal Bureau of Investigations (FBI) and local levels.

Title: “Statement of Personal History.”

Description of Respondents: Applicants for Assistance or Temporary Employment in Disaster.

Form Number: 912.

Annual Responses: 142,000.

Annual Burden: 35,500.

Jacqueline White,
Chief, Administrative Information Branch.

[FR Doc. 2011-22721 Filed 9-6-11; 8:45 am]

BILLING CODE